NATIONAL ARCHIVES AND RECORDS ADMINISTRATION

Privacy Act of 1974, as Amended; System of Records Notices

AGENCY: National Archives and Records Administration (NARA).

ACTION: Notice to revise an existing system of records.

SUMMARY: The National Archives and Records Administration (NARA) is amending a system of records notice in its existing inventory of record systems subject to the Privacy Act of 1974 (5 U.S.C. 552a), as amended. NARA also proposes to revise its routine uses (found in Appendix A) to incorporate routine use language recommended by the President's Task Force on Identity Theft. In this notice, NARA publishes a revision to NARA 23, Office of Inspector General Investigative Case Files, for comment.

DATES: Effective Dates: The establishment of the revised system NARA 23 and the revised Appendix A will become effective without further notice on July 6, 2007, unless comments received on or before that date cause a contrary decision. If changes are made based on NARA's review of comments received, a new final notice will be published.

ADDRESSES: NARA invites interested persons to submit comments on this system notice. Comments may be submitted by any of the following methods:

• Mail: Send comments to: Privacy Act Officer, Office of General Counsel (NGC), Room 3110, National Archives and Records Administration, 8601 Adelphi Road, College Park, MD, 20740-6001.

• Fax: Submit comments by facsimile transmission to: 301-837-0293.

• E-Mail: Send comments to ramona.oliver@nara.gov.

FOR FURTHER INFORMATION CONTACT: Ramona Branch Oliver, Privacy Act Officer, 301-837-2024 (voice) or 301-837-0293 (fax).

SUPPLEMENTARY INFORMATION: The NARA system of records notices subject to the Privacy Act of 1974 (5 U.S.C. 552a), as amended, have been published in the Federal Register. They are available on the Internet at http://www.archives.gov/foia/privacy-program/inventory.html or from the Privacy Act Officer, Office of General Counsel (NGC), Room 3110, National Archives and Records Administration, 8601 Adelphi Road, College Park, MD, 20740-6001.

The notice for NARA 23 is being revised in the following areas:

• Name of System: The name of the system has changed from Investigative Case Files to Office of Inspector General Investigative Case Files.

• Security Classification: The reference to the prevailing Executive Order on national security classification is updated to read EO 12958, as amended.

• Authority for Maintenance of the System: References to 44 U.S.C. 2104(h) and Executive Orders 10450, 11246, and 11478 are removed.

• Routine Uses of Records Maintained in the System: The routine use statements specific to NARA 23 have been completely revised.

Appendix A is amended by adding new routine use H—Data Breach incorporating the suggested language from the President's Identity Task Force.

One of the purposes of the Privacy Act, as stated in section 2(b)(4) of the Act, is to provide certain safeguards for an individual against an invasion of personal privacy by requiring Federal agencies to disseminate any record of identifiable personal information in a manner that assures that such action is for a necessary and lawful purpose, that information is current and accurate for its intended use, and that adequate safeguards are provided to prevent misuse of such information. NARA intends to follow these principles in transferring information to another agency or individual as a “routine use”, including assurance that the information is relevant for the purposes for which it is transferred.

The NARA 23 system notice and the inventory of routine uses, as amended, are published at the end of this notice.

Dated: May 29, 2007.
Allen Weinstein,
Archivist of the United States.

1. NARA 23 is revised to read as follows:

NARA 23

SYSTEM NAME:

Office of Inspector General Investigative Case Files.

SECURITY CLASSIFICATION:

Some of the material contained in this system of records has been classified in the interests of national security pursuant to Executive Orders 12958, as amended, and 13142.

SYSTEM LOCATION:

Investigative case files are located at the Office of Inspector General at the National Archives and Records Administration, College Park, Maryland.

CATEGORIES OF INDIVIDUALS IN THE SYSTEM:

Individuals covered by this system of records may include: persons who have been the source of a complaint or an allegation that a crime has occurred, witnesses having information or evidence concerning an investigation, and suspects in criminal, administrative, or civil actions. Current and former NARA employees, NARA contract employees, members of NARA's Federal advisory committees, and members of the public are covered under this system of records when they become subjects of or witnesses to authorized investigations.

CATEGORIES OF RECORDS IN THE SYSTEM:

Investigative case files may include: Statements of alleged administrative, ethical, or criminal wrongdoing; reports; related correspondence; exhibits; copies of forms and decisions; summaries of hearings and meetings; notes; attachments; and other working papers. These records may contain some or all of the following information about an individual: name; address; correspondence symbol; telephone number; birth date; birthplace; citizenship; educational background; employment history; medical history; identifying numbers such as social security and driver's license numbers; and insurance information.

AUTHORITY FOR MAINTENANCE OF THE SYSTEM:

5 U.S.C. App. 3.

ROUTINE USES OF RECORDS MAINTAINED IN THE SYSTEM, INCLUDING CATEGORIES OF USERS AND THE PURPOSES OF SUCH USES:

NARA maintains investigative case files on individuals to: examine allegations and/or complaints of fraud, waste, abuse, and irregularities and violations of laws and regulations; make determinations resulting from these authorized investigations; and facilitate the preparation of statistical and other reports by the Office of Inspector General. The routine use statements A, B, C, D, G, and H, described in Appendix A following the NARA Notices, apply to this system of records.

In addition to the routine uses described in Appendix A, information in the system may be disclosed as follows:

1. To qualified individuals or organizations (including, but not limited to, members of the President's Council on Integrity and Efficiency, the Executive Council on Integrity and Efficiency, and authorized officials of the Department of Justice and the Federal Bureau of Investigation) in connection with the performance of peer reviews, qualitative assessment reviews, or other studies of internal safeguards and management procedures employed in the operation of the Office of Inspector General.

2. To a court, magistrate or administrative tribunal in the course of presenting evidence, including disclosures to opposing counsel or witness in the course of civil discovery, litigation, or settlement negotiations or in connection with criminal law proceedings or in response to a subpoena where arguably relevant to a proceeding.

3. To the Department of Justice for the purpose of litigating an action or seeking legal advice, or for the purpose of obtaining its advice on Freedom of Information Act matters.

4. To third parties during the course of an investigation to the extent necessary to obtain information pertinent to the investigation.

5. To a congressional office in response to an inquiry made at the request of the individual to whom the record pertains.

6. To an individual or individuals who are in danger in situations involving an imminent danger of death or physical injury.

7. To independent auditors or other private firms or individuals with which the Office of Inspector General has contracted to carry out an independent audit, or to provide support for audits, reviews, investigations or other inquiries. These contractors will be required to maintain Privacy Act safeguards with respect to such records.

8. To inform complainants, victims, and witnesses of the results of an investigation or inquiry.

9. To a Federal agency responsible for considering debarment or suspension action if the record would be relevant to such action.

10. To the Office of Management and Budget for the purpose of obtaining its advice on Privacy Act matters.

11. To the Office of Government Ethics to comply with agency reporting requirements established by the Office of Government Ethics in 5 CFR part 2638, subpart F.

12. To the White House, Office of Management and Budget, and other organizations in the Executive Office of the President regarding matters inquired of.

13. To a contractor, subcontractor, or grantee firm or institution, to the extent that the disclosure is in NARA's interest and is relevant and necessary in order that the contractor, subcontractor, or grantee is able to take administrative or corrective action.

POLICIES AND PRACTICES FOR STORING, RETRIEVING, ACCESSING, RETAINING, AND DISPOSING OF RECORDS IN THE SYSTEM:

STORAGE:

Paper records and electronic media.

RETRIEVABILITY:

Information in investigative case files may be retrieved by case number, an individual's name, or social security number.

SAFEGUARDS:

During business hours, records are maintained in areas accessible only to authorized NARA personnel. After business hours, buildings have security guards and/or secured doors, and all entrances are monitored by electronic surveillance equipment.

RETENTION AND DISPOSAL:

Nearly all investigative case files are temporary records and are destroyed in accordance with the disposition instructions in the NARA records schedule contained in FILES 203, the NARA Files Maintenance and Records Disposition Manual. However, the retention and disposal of significant investigative case files, such as those that result in national media attention, congressional investigation, and/or substantive changes in agency policy or procedure, are determined on a case-by-case basis. Individuals may request a copy of the disposition instructions from the NARA Privacy Act Officer.

SYSTEM MANAGER(S) AND ADDRESS:

The system manager is the Inspector General, Office of Inspector General. The address is listed in Appendix B following the NARA Notices.

NOTIFICATION PROCEDURE:

Individuals interested in inquiring about their records should notify the NARA Privacy Act Officer at the address listed in Appendix B following the NARA notices.

RECORD ACCESS PROCEDURES:

Individuals who wish to gain access to their records should submit their request in writing to the NARA Privacy Act Officer at the address listed in Appendix B.

CONTESTING RECORD PROCEDURES:

NARA rules for contesting the contents and appealing initial determinations are found in 36 CFR part 1202.

RECORD SOURCE CATEGORIES:

Information in investigative case files may be obtained from current and former NARA employees, NARA contract employees, members of NARA's Federal advisory committees, researchers, law enforcement agencies, other Government agencies, informants, and educational institutions, and from individuals' employers, references, coworkers, and neighbors.

SYSTEMS EXEMPTED FROM CERTAIN PROVISIONS OF THE ACT:

In accordance with 5 U.S.C. 552a(j)(2), this system of records, to the extent it pertains to the enforcement of criminal laws, is exempted from all provisions of the Privacy Act of 1974, 5 U.S.C. 552a, except subsections (b), (c)(1) and (c)(2), (e)(4)(A) through (F), (e)(6), (7), (9), (10), and (11), and (i). This exemption applies to those records and information contained in the system of records pertaining to the enforcement of criminal laws.

In accordance with 5 U.S.C. 552a(k)(1), (k)(2), and (k)(5), this system of records is exempt from subsections (c)(3); (d); (e)(1); (e)(4)(G) and (H); and (f) of the Privacy Act of 1974 if the system of records is: (1) Subject to the provisions of section 552(b)(1) of this title; (2) investigatory material compiled for law enforcement purposes; however, if any individual is denied any right, privilege, or benefit to which the individual would otherwise be entitled by Federal law or otherwise eligible as a result of the maintenance of such material, such material shall be provided to such individual, except to the extent that the disclosure of such material would reveal the identity of a source who furnished information to the Government under an express promise that the identity of the source would be held in confidence, or, prior to the effective date of the Act, under an implied promise that the identity of the source would be held in confidence; and (3) investigatory material compiled solely for the purpose of determining suitability, eligibility, or qualifications for Federal civilian employment, military service, Federal contracts, or access to classified material, but only to the extent that the disclosure of such material would reveal the identity of a source who furnished information to the Government under an express promise that the identity of the source would be held in confidence, or, prior to the effective date of the Act, under an implied promise that the identity of the source would be held in confidence.

2. Appendix A is amended as follows:

Appendix A: Routine Uses

* * * * *

The following routine use statements will apply to National Archives and Records Administration notices where indicated:

A. Routine Use-Law Enforcement: In the event that a system of records maintained by this agency to carry out its functions indicates a violation or potential violation of law, whether civil, criminal or regulatory in nature, and whether arising by general statute or particular program statute, or by regulation, rule or order issued pursuant thereto, the relevant records in the system of records, may be referred, as a routine use, to the appropriate agency, whether Federal, State, local, or foreign, charged with the responsibility of investigating or prosecuting such violation or charged with enforcing or implementing the statute, or rule, regulation or order issued pursuant thereto.

B. Routine Use-Disclosure When Requesting Information: A record from this system of records may be disclosed as a routine use to a Federal, State, or local agency maintaining civil, criminal or other relevant enforcement information or other pertinent information, such as current licenses, if necessary, to obtain information relevant to an agency decision concerning the hiring or retention of an employee, the issuance of a security clearance, the letting of a contract, or the issuance of a license, grant, or other benefit.

C. Routine Use-Disclosure of Requested Information: A record from this system of records may be disclosed to a Federal agency, in response to its request, in connection with the hiring or retention of an employee, the issuance of a security clearance, conducting a security or suitability investigation, classifying a job, the reporting of an investigation of an employee, the letting of a contract, or the issuance of a license, grant, or other benefit by the requesting agency, to the extent that the information is relevant and necessary to the requesting agency's decision on the matter.

D. Routine Use-Grievance, Complaint, Appeal: A record from this system of records may be disclosed to an authorized appeal or grievance examiner, formal complaints examiner, equal employment opportunity investigator, arbitrator, or other duly authorized official engaged in investigation or settlement of a grievance, complaint, or appeal filed by an employee. A record from this system of records may be disclosed to the United States Office of Personnel Management, the Merit Systems Protection Board, Federal Labor Relations Authority, or the Equal Employment Opportunity Commission when requested in the performance of their authorized duties. To the extent that official personnel records in the custody of NARA are covered within the system of records published by the Office of Personnel Management as Government wide records, those records will be considered as a part of that Government wide system. Other records covered by notices published by NARA and considered to be separate systems of records may be transferred to the Office of Personnel Management in accordance with official personnel programs and activities as a routine use.

E. Routine Use-Congressional Inquiries: A record from this system of records may be disclosed as a routine use to a Member of Congress or to a Congressional staff member in response to an inquiry of the Congressional office made at the request of the individual about whom the record is maintained.

F. Routine Use-NARA Agents: A record from this system of records may be disclosed as a routine use to an expert, consultant, agent, or a contractor of NARA to the extent necessary for them to assist NARA in the performance of its duties. Agents include, but are not limited to, GSA or other entities supporting NARA's payroll, finance, and personnel responsibilities.

G. Routine Use-Department of Justice/Courts: A record from this system of records may be disclosed to the Department of Justice or in a proceeding before a court or adjudicative body before which NARA is authorized to appear, when: (a) NARA, or any component thereof; or, (b) any employee of NARA in his or her official capacity; or, (c) any employee of NARA in his or her individual capacity where the Department of Justice or NARA has agreed to represent the employee; or (d) the United States, where NARA determines that litigation is likely to affect the agency or any of its components, is a party to litigation or has an interest in such litigation, and the use of such records by the Department of Justice or by NARA before a court or adjudicative body is deemed by NARA to be relevant and necessary to the litigation, provided, however, that in each case, NARA determines that disclosure of the records is a use of the information contained in the records that is compatible with the purpose for which the records were collected.

H. Routine Use—Data breach: A record from this system of records may be disclosed to appropriate agencies, entities, and persons when (1) It is suspected or confirmed that the security or confidentiality of information in the system of records has been compromised; (2) NARA has determined that as a result of the suspected or confirmed compromise there is a risk of harm to economic or property interests, identity theft or fraud, or harem to the security or integrity of this system or other systems or programs (whether maintained by NARA of another agency or entity) that rely upon the compromised information; and (3) the disclosure is made to such agencies, entities, and persons who are reasonably necessary to assist in connection with NARA's efforts to respond to the suspected or confirmed compromise and prevent, minimize, or remedy such harm.

[FR Doc. E7-10849 Filed 6-5-07; 8:45 am]

BILLING CODE 7515-01-P